DEPARTMENT OF AGRICULTURE

Animal and Plant Health Inspection Service

9 CFR Parts 93, 94, and 95

[Docket No. 04-011-3]

Highly Pathogenic Avian Influenza; Additional Restrictions

AGENCY: Animal and Plant Health Inspection Service, USDA.

ACTION: Affirmation of interim rule as final rule.

SUMMARY: We are adopting as a final rule, without change, an interim rule that amended the regulations concerning the importation of animals and animal products to prohibit or restrict the importation of birds, poultry, and unprocessed birds and poultry products from regions that have reported the presence of the H5N1 subtype of highly pathogenic avian influenza and to establish additional permit and quarantine requirements for U.S. origin pet birds and performing or theatrical birds and poultry returning to the United States. The interim rule was necessary to prevent the introduction of highly pathogenic avian influenza subtype H5N1 into the United States.

EFFECTIVE DATE: The interim rule became effective on February 4, 2004.

FOR FURTHER INFORMATION CONTACT: Dr. Karen A. James-Preston, Director, National Center for Import and Export, Technical Trade Services, VS, APHIS, 4700 River Road Unit 38, Riverdale, MD 20737-1231; (301) 734-8172.

SUPPLEMENTARY INFORMATION:

Background

Avian influenza (AI) is a disease that can cause varying degrees of clinical illness in poultry. AI viruses can infect chickens, turkeys, pheasants, quail, ducks, geese, and guinea fowl, as well as a wide variety of other birds. Migratory waterfowl have proved to be the natural reservoir for this disease. AI viruses can be classified into low pathogenic (LPAI) and highly pathogenic (HPAI) forms based on the severity of the illness they cause. Most AI virus strains are LPAI and typically cause little or no clinical signs in infected birds. However, some LPAI virus strains are capable of mutating under field conditions into HPAI viruses, which are extremely infectious and fatal for chickens. HPAI can strike poultry quickly without any infection warning signs and, once established, the disease can spread rapidly from flock to flock. HPAI viruses can also be spread by manure, equipment, vehicles, egg flats, crates, and people whose clothing or shoes have come in contact with the virus. HPAI viruses can remain viable at moderate temperatures for long periods in the environment and can survive indefinitely in frozen material. In some instances, HPAI may even be transmitted to humans, with human infections of AI viruses on the rise in recent years.

The Animal and Plant Health Inspection Service (APHIS) of the United States Department of Agriculture (USDA or the Department) regulates the importation of animals and animal products into the United States to guard against the introduction of animal diseases such as AI. The regulations in 9 CFR parts 93, 94, and 95 (referred to below as the regulations) govern the importation of certain animals, birds, poultry, meat, other animal products and byproducts, hay, and straw into the United States in order to prevent the introduction of various animal diseases, including AI.

In an interim rule effective February 4, 2004, and published in the Federal Register on May 10, 2004 (69 FR 25820-25826, Docket No. 04-011-1), we amended the regulations to require that all pet birds and performing and theatrical birds and poultry of United States origin be subject to a 30-day quarantine at a USDA facility when they have spent any length of time in a region reporting incidents of HPAI subtype H5N1 and to require that U.S. origin birds returning from any such region be accompanied by a permit. The interim rule also added new restrictions on the importation of unprocessed ¹ bird and poultry carcasses, parts, and products, to allow such products from regions where HPAI subtype H5N1 is considered to exist only when accompanied by an import permit and only if they are research or educational materials destined for a museum or an educational or research institution. In the interim rule we also provided that products and byproducts of birds and poultry, including feathers, birds' nests, and bird trophies may be imported from areas where HPAI subtype H5N1 exists only when accompanied by a permit and authorized by the Administrator. Finally, we added a list of regions (Cambodia, China, Indonesia, Japan, Laos, South Korea, Thailand, and Vietnam) where HPAI subtype H5N1 is considered to exist.

¹ In the rule portion of the interim rule we mistakenly omitted the word “unprocessed,” thereby holding both processed and unprocessed bird and poultry products to these restrictions. On June 23, 2005, we published a technical amendment in the Federal Register (69 FR 25820-25826, Docket No. 04-011-2) in which we amended § 94.6, paragraph (e), to correct this omission.

Comments on the interim rule were required to be received on or before July 9, 2004. We received one comment by that date, from a private citizen. The issues raised by this commenter regarding the interim rule are discussed below.

The commenter suggested that APHIS should ban the importation into the United States of all types of birds. The commenter also stated that the 30-day home quarantine for pet birds and theatrical and performing birds and poultry was not effective because bird owners are not qualified to determine the disease status of their birds. The commenter therefore recommended discontinuing the practice of home quarantines, instead quarantining animals in specialized facilities for a minimum of 60 days. The commenter also recommended transferring veterinary inspection functions to epidemiologists and medical doctors. We do not believe the commenter's suggestion that we completely ban the importation of birds into the United States is needed to prevent the introduction of diseases such as avian influenza. We would also like to point out that home quarantine is not available for high-risk birds such as those returning from an H5N1 region; such high-risk birds are required to go to a USDA quarantine facility for a minimum of 30 days, which is a sufficient amount of time for any clinical signs of disease to appear. We also believe that it is most appropriate for a veterinarian to conduct inspections, given that they have animal health expertise that epidemiologists and medical doctors do not necessarily have.

The commenter expressed concern with the requirement that a notarized statement be signed by any bird owner that their bird has not been in contact with other poultry or birds while overseas for more than 60 days in any region other than one listed as a region where HPAI subtype H5N1 exists. The commenter stated that a notarized statement is not a good indicator of the bird's health because it would be easy to lie in such a statement. While it is possible for a bird owner to lie in a notarized statement, there are criminal and civil penalties that APHIS may pursue should a bird owner be found to have made a false statement. These penalties serve as a deterrent to bird owners providing false information in their notarized statements. Finally, we note that in addition to the notarized statement, the regulations also require that the birds undergo a port of entry veterinary inspection; be accompanied by a United States veterinary health certificate issued prior to the bird's departure from the United States containing an identification number which must match the number on the bird's leg band, tattoo, or microchip; and complete a 30-day home quarantine during which the bird is to be made available for health inspection and testing by Department inspectors upon request.

The commenter was also concerned that theatrical and performing animals would be allowed to enter the United States without a mandatory quarantine period. As stated in the interim rule, theatrical or performing birds of United States origin that have been in a region where HPAI subtype H5N1 exists are subject to a minimum 30-day quarantine in a USDA quarantine facility upon their return to the United States. Performing or theatrical birds returning from all other regions must undergo a 30-day home quarantine upon return to the United States.

The commenter also recommended that nests, carcasses, bird trophies, bird parts, or bird products be prohibited from importation into the United States from any region where HPAI subtype H5N1 exists. As stated in the interim rule, carcasses, and parts or products of carcasses, of poultry, game birds, or other birds may be imported into the United States from regions where HPAI subtype H5N1 is known to exist only if they are imported for scientific, educational, or research purposes and only if the Administrator has determined they can be imported under conditions which will prevent the introduction of HPAI subtype H5N1 into the United States. We believe this is sufficient to prevent the spread of HPAI subtype H5N1 to the United States.

Therefore, for the reasons given in the interim rule, we are adopting the interim rule, as amended by the June 23, 2005 technical amendment, as a final rule without change.

This action also affirms the information contained in the interim rule concerning Executive Order 12866 and the Regulatory Flexibility Act, Executive Order 12988, and the Paperwork Reduction Act.

Further, this action has been determined to be not significant for the purposes of Executive Order 12866 and, therefore, has not been reviewed by the Office of Management and Budget.

List of Subjects

9 CFR Part 93

Animal diseases, Imports, Livestock, Poultry and poultry products, Quarantine, Reporting and recordkeeping requirements.

9 CFR Part 94

Animal diseases, Imports, Livestock, Meat and meat products, Milk, Poultry and poultry products, Reporting and recordkeeping requirements.

9 CFR Part 95

Animal feeds, Hay, Imports, Livestock, Reporting and recordkeeping requirements, Straw, Transportation.

PART 93—IMPORTATION OF CERTAIN ANIMALS, BIRDS, AND POULTRY, AND CERTAIN ANIMAL, BIRD, AND POULTRY PRODUCTS; REQUIREMENTS FOR MEANS OF CONVEYANCE AND SHIPPING CONTAINERS

PART 94—RINDERPEST, FOOT-AND-MOUTH DISEASE, FOWL PEST (FOWL PLAGUE), EXOTIC NEWCASTLE DISEASE, AFRICAN SWINE FEVER, CLASSICAL SWINE FEVER, AND BOVINE SPONGIFORM ENCEPHALOPATHY: PROHIBITED AND RESTRICTED IMPORTATIONS

PART 95—SANITARY CONTROL OF ANIMAL BYPRODUCTS (EXCEPT CASINGS), AND HAY AND STRAW, OFFERED FOR ENTRY INTO THE UNITED STATES

Accordingly, the interim rule amending 9 CFR parts 93, 94 and 95 that was published at 69 FR 25820-25826 on May 10, 2004, as amended by the June 23, 2005, technical amendment that was published at 70 FR 36332-36333, is adopted as a final rule without change.

Done in Washington, DC, this 14th day of July 2005 .
Kevin Shea,
Acting Administrator, Animal and Plant Health Inspection Service.

[FR Doc. 05-14262 Filed 7-19-05; 8:45 am]

BILLING CODE 3410-34-P